COMMODITY FUTURES TRADING COMMISSION

17 CFR Part 1

RIN 3038-AB55

A New Regulatory Framework for Multilateral Transaction Execution Facilities, Intermediaries and Clearing Organizations

Correction

In rule document 00-30267 beginning on page 77962 in the issue of Wednesday, December 13, 2000, make the following correction:

§§1.43, 1.45 and 1.50 [Corrected]

On page 77979, in the second column, in amendatory instruction 4., after “are” remove “proposed to be”.

[FR Doc. C0-30267 Filed 12-20-00; 8:45 am]

BILLING CODE 1505-01-D

CORPORATION FOR NATIONAL AND COMMUNITY SERVICE

Availability of Funds for National Service-Learning Clearinghouse

Correction

In notice document 00-31534 beginning on page 77595, in the issue of Tuesday, December 12, 2000, make the following correction:

On page 77597, in the second column, in the second full paragraph, in the last line, “ http://umn.edu/serve).” should read “ http://umn.edu/~serve).”.

[FR Doc. C0-31534 Filed 12-20-00; 8:45 am]

BILLING CODE 1505-01-D

DEPARTMENT OF LABOR

Pension and Welfare Benefits Administration

Prohibited Transaction Exemption 2000-63; [Exemption Application No. D-10651, et al.] Grant of Individual Exemptions; Merrill Lynch & Co., Inc. (ML&Co.)

Correction

In notice document 00-31018, beginning on page 76306, in the issue of Wednesday, December 6, 2000, make the following correction:

On page 76308, in the third column, under the heading FOR FURTHER INFORMATION CONTACT:, in the 10th line, “ 2000-64” should read “2000-65”.

[FR Doc. C0-31018 Filed 12-20-00; 8:45 am]

BILLING CODE 1505-01-D

DEPARTMENT OF THE TREASURY

Customs Service

19 CFR Parts 12 and 113

[T.D. 00-87]

RIN 1515-AC43

Amended Bond Procedures for Articles Subject to an Exclusion Order Issued by the U.S. International Trade Commission

Correction

In rule document 00-31699 beginning on page 77813 in the issue of Wednesday, December 13, 2000, make the following correction:

§12.39 [Corrected]

1. On page 77815, in the third column, in §12.39(b)(2), in the fourth line, remove “9”.

Appendix B to Part 113 [Corrected]

2. On page 77816, in the first column, in appendix B to part 113, in the third line, remove “11”.

[FR Doc. C0-31699 Filed 12-20-00; 8:45 am]

BILLING CODE 1505-01-D